DEPARTMENT OF EDUCATION

[CFDA No: 84.031H and 84.031N]

Alaska Native and Native Hawaiian-Serving Institutions Program Notice of Reopening of Fiscal Year 2000 Deadline Dates for Receipt of Applications for Designation as Eligible Alaska Native-Serving Institutions and for Receipt of Grant Applications From Alaska Native-Serving Institutions

Purpose: On December 30, 1999 we published in the Federal Register (64 FR 73527) a closing date notice for applications from institutions that wished to be designated as eligible institutions under the Alaska Native and Native Hawaiian-Serving Institutions Program. This program is authorized under section 317 of Title III of the Higher Education Act of 1965, as amended (HEA). Under that notice, February 4, 2000 was the deadline date for submitting eligibility applications for institutions that wished to apply for Fiscal Year 2000 grants.

On December 30, 1999, we also published in the Federal Register (64 FR 73525) the grant application closing date notice for the Alaska Native and Native Hawaiian-Serving Institutions Program. That deadline date was February 18, 2000 for applications for development grants. (Planning grant deadline was March 2, 2000.)

In response to these notices, three institutions applied to be designated as an eligible Alaska Native-Serving Institution, but only one institutional applicant so qualified. This institution applied for a planning grant of roughly $32,500. Approximately $1.5 million of the Fiscal Year 2000 appropriation designated for Alaska Native-Serving Institutions under the Alaska Native and Native Hawaiian-Serving Institutions Program remains available for new awards.

There are four other institutions in Alaska that could have applied and qualified as eligible Alaska Native-Serving Institutions, and would have been considered for funding under the Alaska Native and Native Hawaiian-Serving Institutions Program had they applied. Accordingly, we are reopening the eligibility designation process and extending the deadline date to July 7, 2000 to allow institutions to apply for designation as eligible Alaska Native-Serving Institutions. We are also opening the grant application process and extending the deadline date to July 28, 2000 to allow only eligible Alaska Native-Serving Institutions to apply for a grant under the Alaska Native and Native Hawaiian-Serving Institutions Program.

Applications Available: Applications currently available.

Deadline for Transmittal of Applications: June 28, 2000 for applications requesting designation as an eligible Alaska Native-Serving Institution and the Alaska Native-Serving Institutions Certification Form (Appendix XIII in application booklet). July 28, 2000 for grant applications from eligible Alaska Native-Serving Institutions under the Alaska Native and Native Hawaiian-Serving Institutions Program.

Available Funds: Approximately $1.5 million.

For Applications or Information Contact: Darlene B. Collins, U.S. Department of Education, 1990 K Street, NW., 6th Floor, Washington, DC 20006-8513. Telephone (202) 502-7777. E-mail: darlene_collins@ed.gov. If you use a telecommunications device for the deaf (TDD) you may call the Federal Information Relay Service (FIRS) at 1-800-877-8339.

Individuals with disabilities may obtain this document in an alternate format (e.g., Braille, large print, audio tape, or computer diskette) on request to the contact person listed in the preceding paragraph.

Individuals with disabilities may obtain a copy of the application package in an alternate format, also, by contacting that person. However, the Department is not able to reproduce in an alternate format the standard forms included in the application package.

Electronic Access to This Document

You may view this document, as well as all other Department of Education documents published in the Federal Register, in text or Adobe Portable Format (PDF) on the Internet at either of the following sites:

http://gcs.ed.gov/fedreg.htm

http://www.ed.gov/news.html

To use PDF, you must have Adobe Acrobat Reader, which is available free at either of the previous sites. If you have questions about using the PDF, call the U.S. Government Printing Office (GPO) toll free at 1-888-293-6498; or in the Washington, DC, area at (202) 572-1530.

Note: The official version of a document is the document published in the Federal Register. Free Internet access to the official edition of the Federal Register and the Code of Federal Regulations is available on GPO Access at: http://www.access.gpo.gov/nara/index.html.

Program Authority: 20 U.S.C. 1059d.

Dated: June 20, 2000.
A. Lee Fritschler,
Assistant Secretary for Postsecondary Education.

[FR Doc. 00-15920 Filed 6-22-00; 8:45 am]

BILLING CODE 4000-01-P